DEPARTMENT OF JUSTICE

Notice of Public Comment Period for Proposed Consent Decree Under the Clean Air Act

Under 28 CFR 50.7, notice is hereby given that, for a period of 30 days, the United States will receive public comments on a proposed Consent Decree in United States v. Miller, Dyer & Co., L.LC., Chicago Energy Associates, and Whiting Oil and Gas Corp., (civ. no. 2:09-cv-00332-DAK), which was lodged with the United States District Court for Utah on April 17, 2009.

This proposed Consent Decree was lodged simultaneously with the Complaint in this matter pursuant to Section 112 of the Clean Air Act, 42 U.S.C. 7412, to resolve alleged violations at the defendants' compressor stations on Indian Lands, in the Uinta Basin, Utah. Under the settlement, the defendants will install air pollution controls on all existing and newly constructed compressor stations in the Uinta Basin. In addition, the defendants will pay a civil penalty of $142,000 under the Decree.

The Department of Justice will receive, for a period of thirty (30) days from the date of this publication, comments relating to the Decree. Comments should be addressed to the Assistant Attorney General, Environment and Natural Resources Division, and either e-mailed to pubcomment-ees.enrd@usdoj.gov or mailed to P.O. Box 7611, U.S. Department of Justice, Washington, DC 20044-7611, and should refer to United States v. Miller, Dyer & Co., L.LC., Chicago Energy Associates, and Whiting Oil and Gas Corp., D.J. Ref. 90-5-2-1-09383.

During the public comment period, the Decree may be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.00 (25 cents per page reproduction cost) payable to the U.S. Treasury or, if by e-mail or fax, forward a check in that amount to the Consent Decree Library at the stated address.

Maureen Katz,
Assistant Chief, Environmental Enforcement Section, Environment and Natural Resources Division.

[FR Doc. E9-9918 Filed 4-29-09; 8:45 am]

BILLING CODE 4410-15-P